DEPARTMENT OF ENERGY

Federal Energy Regulatory Commission

[Docket No. CP21-45-000]

Florida Gas Transmission Company, LLC; Notice of Effectiveness of Withdrawal of Application

On January 29, 2021, Florida Gas Transmission Company, LLC (Florida Gas) filed an application pursuant to section 7(c) of the Natural Gas Act (NGA) ¹ for authorization to construct, own, and operate its Big Bend Project. On February 22, 2022, Florida Gas filed a notice of withdrawal of its application. No motion in opposition to the notice of withdrawal has been filed, and the Commission has taken no action to disallow the withdrawal. Pursuant to Rule 216(b) of the Commission's Rules of Practice and Procedure,² the withdrawal of the application became effective on March 10, 2022, and this proceeding is hereby terminated.

¹ 15 U.S.C. 717f(c).

² 18 CFR 385.216(b) (2021).

Dated: March 25, 2022.
Kimberly D. Bose,
Secretary.

[FR Doc. 2022-06805 Filed 3-30-22; 8:45 am]

BILLING CODE 6717-01-P